NUCLEAR REGULATORY COMMISSION

[NRC-2009-0279]

Impact of Reduced Dose Limits on NRC Licensed Activities; Solicitation of Public Comment

AGENCY: Nuclear Regulatory Commission.

ACTION: Solicitation of public comment.

SUMMARY: The U.S. Nuclear Regulatory Commission (NRC or Commission) is seeking public comment on NUREG/CR-6112, “Impact of Reduced Dose Limits on NRC Licensed Activities,” published in May 1995 (ADAMS Accession No. ML110960355). This document is being revised to support the technical basis development for possible changes to NRC's radiation protection regulations, as appropriate and where scientifically justified, to achieve greater alignment with the 2007 recommendations of the International Commission on Radiological Protection (ICRP) contained in ICRP Publication 103.

DATES: Comments must be filed no later than August 19, 2011. Comments received after this date will be considered, if it is practical to do so, but the Commission is able to ensure consideration only for comments received on or before this date.

ADDRESSES: Please include Docket ID NRC-2009-0279 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2009-0279. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. NUREG/CR-6112, “Impact of Reduced Dose Limits on NRC Licensed Activities,” published in May 1995, is available electronically under ADAMS Accession No. ML110960355.

Background: As part of the technical basis development, the Office of Nuclear Regulatory Research (RES) staff entered into a contract with Sandy Cohen & Associates (SC&A) to revise NUREG/CR-6112. The revision of this document would include updated information regarding potential impacts, burdens, and benefits of reduced occupational limits on NRC- and Agreement State-licensed activities.

Discussion: The Commission believes that the current NRC regulatory framework continues to provide adequate protection of health and safety of workers, the public, and the environment. To ensure that NRC is well informed of all the benefits and burdens associated with further alignment of NRC's current radiation protection regulations with ICRP Publication 103, NRC is seeking input from stakeholders and interested parties on NUREG/CR-6112. Specifically, public comments should address impacts to NRC- and Agreement State-licensed activities regarding: (1) Changes to the current occupational dose limit of 50 mSv/yr (5 rem/yr); (2) changes to the current dose limit for declared pregnant workers of 5 mSv (0.50 rem); (3) an increase or decrease in collective worker dose (person-mSv); (4) the need for expanded exposure control efforts; and (5) economic costs that may be incurred to achieve compliance with potential reduced occupational dose limits. Stakeholders and interested parties also may provide comments on other options, issues, or information for NRC's consideration. The NRC staff and SC&A will use this feedback in developing the revised NUREG/CR-6112 report.

Dated at Rockville, Maryland, this 29th day of June 2011.
For the Nuclear Regulatory Commission.
Terry Brock,
Acting Branch Chief, Division of Systems Analysis, Office of Nuclear Regulatory Research.

[FR Doc. 2011-17308 Filed 7-8-11; 8:45 am]

BILLING CODE 7590-01-P